DEPARTMENT OF THE INTERIOR

National Park Service

[NPS-NER-BOHA-19759; PPMPSPD1Z.YM0000] [PPNEBOHAS1]

Boston Harbor Islands National Recreation Area Advisory Council

AGENCY: National Park Service, Interior.

ACTION: Notice of quarterly meeting.

SUMMARY: This notice announces a quarterly meeting of the Boston Harbor Islands National Recreation Area Advisory Council (Council). The agenda includes planning for the annual meeting, reactivation of the nominating committee, report by park managers on the past season and their plans for next season, and an update on plans for celebrating the 10th anniversary of the opening of Spectacle Island, the 20th anniversary of the park, and the NPS Centennial and the Boston Light Tricentennial in 2016.

DATES: December 9, 2015, 4:00 p.m. to 6:00 p.m. (Eastern).

ADDRESSES: National Park Service, 15 State Street, 2nd floor Conference Room, Boston, MA 02109.

FOR FURTHER INFORMATION CONTACT: Giles Parker, Superintendent and Designated Federal Official, Boston Harbor Islands National Recreation Area, 15 State Street, Suite 1100, Boston, MA 02109, telephone (617) 223-8669, or email giles_parker@nps.gov.

SUPPLEMENTARY INFORMATION: This meeting is open to the public. Those wishing to submit written comments may contact the DFO for the Council, Giles Parker, by mail at National Park Service, Boston Harbor Islands, 15 State Street, Suite 1100, Boston, MA 02109. Before including your address, telephone number, email address, or other personal identifying information in your comment, you should be aware that your entire comment—including your personal identifying information—may be made publicly available at any time. While you may ask us in your comment to withhold your personal identifying information from public review, we cannot guarantee that we will be able to do so.

The Council was appointed by the Director of the National Park Service pursuant to 16 U.S.C. 460kkk(g). The purpose of the Council is to advise and make recommendations to the Boston Harbor Islands Partnership with respect to the implementation of a management plan and park operations. Efforts have been made locally to ensure that the interested public is aware of the meeting dates.

Alma Ripps,
Chief, Office of Policy.

[FR Doc. 2015-29823 Filed 11-20-15; 8:45 am]

BILLING CODE 4310-EE-P